DEPARTMENT OF ENERGY

Federal Energy Regulatory Commission

[Docket No. RP01-509-001]

Florida Gas Transmission Company; Notice of Correction Filing of Annual Charge Adjustment

September 25, 2001

Take notice that on September 20, 2001, Florida Gas Transmission Company (FGT) tendered for filing to become part of its FERC Gas Tariff, Third Revised Volume No. 1, the following tariff sheet, effective October 1, 2001:

First Revised Sheet No. 8A.03

FGT states that on August 17, 2001 FGT filed revised tariff sheets in Docket No. RP01-509-000 (August 17 Filing) to reflect a reduction in the ACA charge from 0.22¢ to 0.21¢ per MMBtu based on the Commission's Annual Charge Billing for Fiscal Year 2001. FGT inadvertently failed to include Rate Sheet No. 8A.03 as part of the August 17 Filing. FGT states that the instant filing is made to reflect the reduction in the ACA charge on Sheet No. 8A.03.

Any person desiring to protest said filing should file a protest with the Federal Energy Regulatory Commission, 888 First Street, NE., Washington, DC 20426, in accordance with Section 385.211 of the Commission's Rules and Regulations. All such protests must be filed on or before October 2, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24310 Filed 9-27-01; 8:45 am]

BILLING CODE 6717-01-P